DEPARTMENT OF THE INTERIOR

Bureau of Land Management

[OR-957-00-6334-bj: GP07-0098]

Filing of Plats of Survey: Oregon/Washington

AGENCY: Bureau of Land Management, U.S. Department of the Interior.

ACTION: Notice.

SUMMARY: The plats of survey of the following described lands were officially filed in the Bureau of Land Management Oregon/Washington State Office, Portland, Oregon, on February 7, 2007.

Willamette Meridian

Washington

T. 17 N., R. 7 E., accepted November 22, 2006

T. 29 N., R. 25 E., accepted December 15, 2006

T. 14 N., R. 25 E., accepted December 29, 2006

T. 15 N., R. 25 E., accepted December 29, 2006

T. 14 N., R. 24 E., accepted December 29, 2006

T. 13 N., R. 24 E., accepted December 29, 2006

T. 14 N., R. 28 E., accepted December 29, 2006

T. 15 N., R. 28 E., accepted December 29, 2006

T. 15 N., R. 27 E., accepted December 29, 2006

T. 15 N., R. 26 E., accepted December 29, 2006

T. 13 N., R. 28 E., accepted December 29, 2006

T. 12 N., R. 28 E., accepted December 29, 2006

The plats of survey of the following described lands were officially filed in the Bureau of Land Management Oregon/Washington State Office, Portland, Oregon, on March 19, 2007.

Willamette Meridian

Oregon

T. 29 S., R. 9 W., accepted January 19, 2007

T. 30 S., R. 5 W., accepted January 26, 2007

T.31 S., R. 4 W., accepted January 26, 2007

T. 15 S., R. 6 W., accepted February 15, 2007

T. 10 S., R. 1 E., accepted February 15, 2007

T. 13 S., R. 8 W., accepted February 15, 2007

T. 7 S., R. 4 E., accepted February 15, 2007

T. 29 S., R. 10 W., accepted February 15, 2007

T. 15 S., R. 2 W., accepted February 15, 2007

T. 8 S., R. 4 E., accepted February 23, 2007

Willamette Meridian

Washington

T. 5 N., R. 23 E., accepted January 26, 2007

T. 4 N., R. 23 E., accepted January 26, 2007

T. 31 N., R. 7 W., accepted February 23, 2007

The plats of survey of the following described lands were officially filed in the Bureau of Land Management Oregon/Washington State Office, Portland, Oregon, on March 27, 2007.

Willamette Meridian

Oregon

T. 15 S., R. 13 E., accepted March 15, 2007

Willamette Meridian

Washington

T. 19 N., R. 3 W., accepted March 9, 2007

T. 39 N., R. 33 E., accepted March 9, 2007

A copy of the plats may be obtained from the Land Office at the Oregon/Washington State Office, Bureau of Land Management, 333 SW., 1st Avenue, Portland, Oregon 97204, upon required payment. A person or party who wishes to protest against a survey must file a notice that they wish to protest (at the above address) with the Oregon/Washington State Director, Bureau of Land Management, Portland, Oregon.

For further information contact: Chief, Branch of Geographic Sciences, Bureau of Land Management, (333 S.W. 1st Avenue) P.O. Box 2965, Portland, Oregon 97208.

Dated: April 4, 2007.
Pamela J. Chappel,
Branch of Lands and Minerals Resources.

[FR Doc. E7-6907 Filed 4-11-07; 8:45 am]

BILLING CODE 4310-33-P